DEPARTMENT OF JUSTICE

Drug Enforcement Administration

[Docket No. DEA-647]

Importer of Controlled Substances Application: Biopharmaceutical Research Company LLC

ACTION: Notice of application.

DATES: Registered bulk manufacturers of the affected basic class(es), and applicants therefore, may file written comments on or objections to the issuance of the proposed registration on or before June 18, 2020. Such persons may also file a written request for a hearing on the application on or before June 18, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on December 21, 2018, Biopharmaceutical Research Company LLC, 11045 Commercial Parkway, Castroville, California 95012-3209, applied to be registered as an importer of the following basic class(es) of controlled substances:

Controlled substance | Drug code | Schedule
Marijuana | 7360 | I

The company plans to import narcotic raw material for bulk manufacture and analytical purposes. This notice does not constitute an evaluation or determination of the merits of the company's application.

William T. McDermott,
Assistant Administrator.

[FR Doc. 2020-10734 Filed 5-18-20; 8:45 am]

BILLING CODE 4410-09-P